DEPARTMENT OF COMMERCE

International Trade Administration

(C-549-824)

Preliminary Negative Countervailing Duty Determination and Alignment with Final Antidumping Duty Determination: Bottle-Grade Polyethylene Terephthalate (PET) Resin From Thailand

AGENCY: Import Administration, International Trade Administration, Department of Commerce.

SUMMARY: The Department of Commerce (the Department) preliminarily determines that countervailable subsidies are not being provided to producers and exporters of Bottle-Grade (BG) Polyethylene Terephthalate (PET) Resin from Thailand. For information on the estimated subsidy rates, see the “Preliminary Determination” section of this notice.

EFFECTIVE DATE: August 30, 2004.

FOR FURTHER INFORMATION CONTACT: Thomas Gilgunn or Dara Iserson, Office of AD/CVD Enforcement VI, Import Administration, U.S. Department of Commerce, Room 7866, 14th Street and Constitution Avenue, NW, Washington, DC 20230; telephone (202) 482-4236 and (202) 482-4052 respectively.

SUPPLEMENTARY INFORMATION:

Case History

The petition in this investigation was filed on March 24, 2004, by the United States PET Resin Coalition (petitioners). This investigation was initiated on April 14, 2004. See Notice of Initiation of Countervailing Duty Investigation: Bottle-Grade Polyethylene Terephthalate (PET Resin from India and Thailand (C-533-842) and (C-549-824), 69 FR 21086 (April 20, 2004). On April 28, 2004, we issued a questionnaire to the Royal Thai Government (RTG) and requested that the RTG forward the relevant sections of the questionnaire to Thai producers/exporters of BG PET Resin.

On May 21, 2004, petitioners timely requested a 65-day postponement of the preliminary determination for this investigation until August 21, 2004. On June 3, 2004, the Department extended the deadline for the preliminary determination by 67 days to August 23, 2004, since August 21, 2004 falls on a Saturday, in accordance with section 703(c)(1)(A) of the Tariff Act of 1930, as amended (the Act). See Postponement of Preliminary Countervailing Duty Determinations: Bottle-Grade Polyethylene Terephthalate Resin from India and Thailand, 69 FR 31354 (June 3, 2004).

On June 14, 2004, the RTG submitted its questionnaire response. The RTG identified three Thai companies that produced and exported BG PET Resin to the United States during the period of investigation, and indicated which programs had been used by these companies. These three companies are Thai Shinkong Industry Corporation Limited (Thai Shinkong), Bangkok Polyester Public Company Limited (Bangkok Polyester), and Indopet (Thailand) Limited (Indopet) (herein after “respondent companies”). These three companies submitted responses on June 14, 2004.

On July 8, 2004, the Department issued supplemental questionnaires to the RTG and the three respondent companies. Thai Shinkong and Bangkok Polyester filed their respective supplemental responses on July 26, 2004. Indopet submitted its supplemental response on July 28, 2004. On July 29, 2004, we received the RTG's supplemental response.

On August 2, 2004, petitioners filed deficiency comments for Thai Shinkong's and the RTG's responses. We received deficiency comments for Bangkok Polyester's responses on August 3, 2004 and for Indopet's questionnaire responses on August 5, 2004.

On August 5, 2004, we issued a second supplemental questionnaire to Thai Shinkong. On August 6, 2004, we issued a second supplemental questionnaire to the RTG. Additionally, on August 9, 2004, and August 10, 2004, we issued second supplemental questionnaires to Bangkok Polyester and Indopet, respectively.

On August 16, 2004, we received a response from Thai Shinkong. We received a response from Indopet on August 17, 2004. Additionally, on August 18, 2004, and on

August 19, 2004, we received responses from the RTG and Bangkok Polyester, respectively.

Scope of the Investigation

The merchandise covered by this investigation is BG PET Resin, defined as having an intrinsic viscosity of at least 0.68 deciliters per gram but not more than 0.86 deciliters per gram. The scope includes BG PET Resin that contains various additives introduced in the manufacturing process. The scope does not include post-consumer recycle (PCR) or post-industrial recycle (PIR) PET resin; however, included in the scope is any BG PET Resin blend of virgin PET bottle-grade resin and recycled PET (RPET). Waste and scrap PET is outside the scope of the investigation. Fiber-grade PET resin, which has an intrinsic viscosity of less than 0.68 deciliters per gram, is also outside the scope of the investigations. The merchandise subject to these investigations is properly classified under subheading 3907.60.0010 of the Harmonized Tariff Schedule of the United States (HTSUS); however, merchandise classified under HTSUS subheading 3907.60.0050 that otherwise meets the written description of the scope is also subject to these investigations. Although the HTSUS subheadings are provided for convenience and customs purposes, the written description of the merchandise under investigation is dispositive.

Injury Test

Because Thailand is a “Subsidies Agreement Country” within the meaning of section 701(b) of the Act, the International Trade Commission (ITC) is required to determine whether imports of the subject merchandise from Thailand materially injure, or threaten material injury to, a U.S. industry. On May 19, 2004, the ITC published its preliminary determination that there is a reasonable indication that an industry in the United States is materially injured by reason of imports from India, Indonesia, Taiwan and Thailand of subject merchandise. See Polyethylene Terephthalate (PET) Resin From India, Indonesia, Taiwan, and Thailand, 69 FR 28948.

Alignment With Final Antidumping Duty Determinations

On July 30, 2004, petitioners submitted a letter requesting alignment of the final determination in this investigation with the final determination in the companion antidumping duty investigation. Therefore, in accordance with section 705(a)(1) of the Act, we are aligning the final determination in this investigation with the final determinations in the antidumping duty investigations of BG PET Resin from India, Thailand, Taiwan, and Indonesia.

Period of Investigation

The period of investigation (POI) for which we are measuring subsidies is January 1, 2003, through December 31, 2003, which corresponds to the most recently completed fiscal year for the respondent companies. See 19 CFR 351.204(b)(2).

Subsidies Valuation Information

Discount Rates

Thai Shinkong, Bangkok Polyester, and Indopet received exemptions from import duties on the importation of capital equipment (under Section 28 of the Investment Promotion Act of 1977 (IPA)), which we have preliminarily determined to be non-recurring benefits in accordance with 19 CFR 351.524(c). For a discussion of our decision to treat these duty exemptions as non-recurring subsidies, see “Duty Exemptions on Imports of Machinery Under IPA Section 28” below. All three respondent companies received IPA Section 28 exemptions, collectively in the years 1995 through 2003. Section 351.524(d)(3) of the Department's regulations directs us regarding the selection of a discount rate for the purposes of allocating non-recurring benefits over time. The regulations provide several options in order of preference. The first among these is the cost of long-term fixed-rate loans of the firm in question, excluding any loans which have been determined to be countervailable, for each year in which non-recurring subsidies have been received. None of the respondent companies have provided an annual average cost of long-term fixed-rate baht-denominated loans. Therefore, in accordance with 19 CFR 351.505(a)(3)(ii), we are using national average interest rates. For the years 1997 through 2000, we are using information published by the Bank of Thailand and provided by the RTG. This interest rate information is reported monthly for the years specified; we have calculated simple averages of the monthly data to obtain an annual average. The RTG did not provide information for the years 1995, 1996, and 2001 through 2003; therefore, we are using the annual average long-term interest rate information from the International Monetary Fund's publication International Financial Statistics for those years.

Allocation Period

Pursuant to 19 CFR 351.524(b), non-recurring subsidies are allocated over a period corresponding to the average useful life (AUL) of the renewable physical assets used to produce the subject merchandise. The regulatory provision at 19 CFR 351.524(d)(2) creates a rebuttable presumption that the AUL will be taken from the U.S. Internal Revenue Service's 1977 Class Life Asset Depreciation Range System (the IRS Tables). For assets used to manufacture products such as BG PET Resin, the IRS Tables prescribe an AUL of 10 years. Only Indopet disputes this allocation period. However, Indopet did not provide the data to demonstrate that its proposed alternative company-specific AUL was calculated in accordance with the requirements of 19 CFR 351.524(d)(2)(iii). Therefore, we have used the 10-year allocation period for all respondent companies.

Denominator

When selecting an appropriate denominator for use in calculating the ad valorem countervailable subsidy rate, the Department considered the basis for the respondent companies' approval for benefits under the Investment Promotion Act of 1977 (IPA). The benefits approved for all three respondent companies were tied to their production of BG PET Resin, the merchandise subject to this investigation. Therefore, BG PET Resin is the companies' “promoted” business, and we find that the benefits are tied to sales of subject merchandise in accordance with 19 CFR 351.525 of the Department's regulations. Thus, the appropriate denominator would be sales of BG PET Resin. However, two of the companies were approved for IPA benefits contingent upon specific exportation requirements, rendering their subsidies export subsidies (see “Investment Incentives Under the Investment Promotion Act (IPA)” in the “Programs Preliminarily Determined to be Countervailable” section, below). Thus, for Thai Shinkong and Bangkok Polyester, the appropriate denominator for calculating the ad valorem countervailable subsidy rate is total exports of subject merchandise. See 19 CFR 351.525.

Cross-Ownership and Attribution of Subsidies

Based on business proprietary information on the record, there may be a potential cross-ownership issue with respect to one of the respondent companies. For purposes of this preliminary determination, we do not have enough information in the record to analyze this issue. We will continue to gather information in order to fully analyze this issue for the purposes of the final determination.

Programs Preliminarily Determined To Be Countervailable

Investment Incentives Under the Investment Promotion Act (IPA)

According to the questionnaire responses, the IPA is administered by the Board of Investment (BOI) and is designed to provide incentives to invest in Thailand. In order to receive IPA benefits, each company must apply to the BOI for a Certificate of Promotion, which specifies goods to be produced, any specific conditions concerning production and sales, and benefits approved. These certificates are granted at the discretion of the BOI and are periodically amended or reissued to change or extend benefits or requirements. The approval of the application by the BOI confers “promoted” status on the recipient. Once granted “promoted” status, a company may receive IPA benefits including import duty exemptions, income tax exemptions, and other tax benefits under various sections of the IPA. Each IPA benefit for which a company is eligible must be specifically stated in the Certificate.

All three respondent companies applied for and received “promoted” company status. Their Certificates indicate the specific sections of the IPA under which they are eligible for benefits. We initiated an investigation of sections 28, 30, 31, 35 and 36 of the IPA.

When determining whether a program is countervailable, we must examine whether it is an import substitution or export subsidy, whether it provides benefits to a specific enterprise, industry, or group thereof, either in law (de jure specificity) or in fact (de facto specificity) or whether it is regionally specific. See section 771(5A) of the Act. Under section 771(5A)(B) of the Act, a subsidy is an export subsidy if it is “in law or in fact contingent upon export performance alone or as 1 of 2 or more conditions.”

There is no element of the IPA explicitly limiting eligibility for IPA program benefits to an enterprise, industry, or group thereof. The legislation of the IPA does not mandate export of the products covered by a certificate, however, some specific sections of the IPA contain express export requirements. Chapter 2 of the 1991 IPA law governs the procedures for granting “promoted” status to applicants. “Promoted” status is required in order for a company to take advantage of any programs offered under the IPA, including those programs that carry an export commitment. Chapter 2 of the 1991 IPA includes exportation as one of the criteria to be considered in granting “promoted” status to a company. In addition, in 1993 the BOI issued BOI Announcement 1/1993, “Policies and Criteria for Investment Promotion,” to update the standards for granting “promoted” status. The update contained a section requiring a commitment to export at least 50 percent of the manufactured product where the majority of a company's shares is held by foreign investors. Chapter 2 of the 1991 IPA and BOI Announcement 1/1993, updating the policies and criteria, were in effect when the responding companies applied for and received “promoted company” status.

Because the IPA does not generally require an export commitment, we have not found it to be an export subsidy per se. However, an applicant may take on an export commitment as a basis for receiving “promoted” status. Therefore, it was necessary to analyze the application and approval experiences of the individual companies to determine if, in law or in fact, the granting of “promoted” status was contingent on export performance. If receipt of IPA program benefits was contingent upon export performance then all of the benefits the company receives under the IPA constitute export subsidies within the meaning of section 771(5A)(B) of the Act. Compare Final Affirmative Countervailing Duty Determination: Stainless Steel Plate in Coils from South Africa, 64 FR 15553, 15556 (March 3, 1999).

Thai Shinkong's application for “promoted” status indicates that it is a company with majority foreign ownership. In accordance with Announcement 1/1993, Thai Shinkong's application also indicated that Thai Shinkong intended to export a substantial portion of its BG PET Resin production. Although Thai Shinkong's Promotion Certificate does not include a stipulation to export, we note that Announcement 1/1993 mandates an export requirement of 50 percent for majority foreign-owned companies. Thus, Thai Shinkong's “promoted” status was conditioned upon a legal obligation to export BG PET Resin. Therefore, we preliminarily determine that Thai Shinkong's specific package of IPA benefits was conditioned upon an export contingency, that the export requirement is de jure and, therefore, that all benefits received by Thai Shinkong under the IPA are specific as export subsidies within the meaning of section 771(5A)(B) of the Act.

Bangkok Polyester's application for “promoted” status included a commitment to export a significant portion of its BG PET Resin production. Moreover, the Certificate granting “promoted” status to Bangkok Polyester and access to IPA programs clearly stipulates that a certain percentage of Bangkok Polyester's production must be exported. Therefore, Bangkok Polyester's access to IPA benefits was contingent upon an obligation to export BG PET Resin. For these reasons, we preliminarily determine that Bangkok Polyester's specific package of IPA benefits was conditioned upon an export contingency, that there was a de facto export requirement, and, therefore, that all benefits received by Bangkok Polyester under the IPA are specific as export subsidies pursuant to section 771(5A)(B) of the Act.

Indopet's application for “promoted” company status did not include any commitment to export. Nor does Indopet's promotion certificate contain any export conditions. The RTG has reported that Indopet was approved for “promoted” company status under Section 6.17 of the BOI's Announcement No. 2/1993, which contains a “List of Activities Eligible for Investment Promotion.” This announcement lists the categories and conditions of activities eligible for promotion. While for some of the products the list indicates that there are no conditions for obtaining “promoted” company status, most of the products included in this list are followed by a condition that the applicant must be located in a particular investment zone, for example, “must be located in Zone 2 or 3” or “must be located in Zone 3.” BG PET Resin is covered by section 6.17 of Announcement No. 2/1993. Moreover, Indopet's promotion certificate, which sets forth the IPA benefits for which it has been approved, states that the plant must be located in Investment Zone 3. Accordingly, we find that Indopet could not have received any IPA benefits unless it located in Investment Zone 3. Thus, we find that the benefits to Indopet under the IPA are de jure specific as regional subsidies, within the meaning of section 771(5A)(D)(iv) of the Act.

Because the benefits were composed of different types of incentives under different sections of the IPA, we are analyzing the issues of financial contribution and benefit under each relevant section.

A. Duty Exemptions on Imports of Machinery Under IPA Section 28

IPA Section 28 allows companies to import machinery and equipment (fixed assets) with an exemption of import duties. According to the questionnaire responses, Thai Shinkong, Bangkok Polyester, and Indopet received import duty exemptions under IPA Section 28 during the years since their initial certificates were issued. Import duty exemptions provide a financial contribution under section 771(5)(D)(ii) of the Act in the form of foregone revenue that is otherwise due to the RTG. The benefit is the extent to which the import charges paid by the firms as result of the program are less than what they would have paid in the absence of the program. See 19 CFR 351.510(a). Since these import duty exemptions were for the purchase of capital equipment, we are treating these exemptions as non-recurring benefits in accordance with 19 CFR 351.524(c)(2)(iii). The preamble to our regulations states that if a government provides an import duty exemption tied to major equipment purchases, “it may be reasonable to conclude that, because these duty exemptions are tied to capital assets, the benefits from such duty exemptions should be considered non-recurring.” See Countervailing Duties; Final Rule, 63 FR 65348, 65393 (November 25, 1998) (Preamble). The benefit received from the exemption of import duties under IPA Section 28 is tied to the capital assets of the respondent companies. Accordingly, we preliminarily determine that it is appropriate to treat the exemption of duties on capital equipment as a non-recurring benefit. See also Certain Hot-Rolled Carbon Steel Flat Products from Thailand: Final Affirmative Countervailing Duty Determination, 66 FR 50410 (October 6, 2001).

To measure the benefit allocable to the POI, we first conducted the “0.5 percent test” for each year a company received Section 28 import duty exemptions. See 19 CFR 351.524(b)(2). For each year in which a company received section 28 import duty exemptions, we summed the value of the company's duty exemptions provided in that year and divided that sum by the relevant total sales for that year (export sales of subject merchandise for Bangkok Polyester and Thai Shinkong and total sales of subject merchandise for Indopet) (see “Subsidies Valuation” section above). As a result, we found that, for certain companies in certain years, Section 28 import duty exemptions should be allocated over time. For those years, we allocated the annual total exemptions, in accordance with 19 CFR 351.524(d), to determine the Section 28 benefits attributable to the POI (see “Allocation Period” section above). In addition, for exemptions received during the POI, if they did not pass the “0.5 percent test,” we attributed the total value of the exemptions to the POI. For each company, we then summed the benefits allocable to the POI and divided that amount by the appropriate total sales of subject merchandise or exports of subject merchandise during the POI (see “Subsidies Valuation Section” above). Thus, we preliminarily determine a countervailable subsidy of 0.31 percent ad valorem for Bangkok Polyester, 0.06 percent ad valorem for Indopet and 0.09 percent ad valorem for Thai Shinkong.

B. Additional Income Tax Deductions Under IPA Section 35

IPA Section 35 provides various income tax deductions and exemptions for “promoted” firms. Section 35(2) allows a 50 percent reduction in the income tax rate for the period of five years from the expiry date of the full income tax exemptions available under Section 31.

Section 35(3) allows “promoted” companies to deduct from taxable income double the cost of transportation, electricity, and water for ten years after the “promoted” company first derives income. Section 35(4) allows for an additional deduction of 25 percent of the cost of installation and construction of the “promoted” facilities. (IPA Section 35(1) was repealed by an earlier amendment.) During the POI, Thai Shinkong, Bangkok Polyester and Indopet claimed benefits under Section 35(3) on their tax returns filed during the POI. None of the companies used the benefits available under sections 35(2) or (4).

Income tax deductions provide a financial contribution under section 771(5)(D)(ii) of the Act in the form of foregone revenue that is otherwise due to the RTG. The benefit is the extent to which the taxes paid by the firms as a result of the program are less than the tax the firms would otherwise pay in the absence of the program. See 19 CFR 351.509(a)(1). Under the provisions of 19 CFR 351.509(a)(1), we preliminarily determine that the section 35(3) tax deductions constitute a benefit.

To measure the benefit, we followed the methodology outlined in the Final Affirmative Countervailing Duty Determination and Countervailing Duty Order; Extruded Rubber Thread from Malaysia, 57 FR 38475 (August 25, 1992). We examined Thai Shinkong's, Bangkok Polyester's, and Indopet's 2002 tax returns, which were filed during the POI. We then determined the extent to which the countervailable tax deduction under Section 35(3) reduced the companies' taxable income by removing the Section 35(3) deductions claimed on the tax return filed during the POI. See id., at 57 FR 38480 (Department's Position at Comment 13); see also Extruded Rubber Thread From Malaysia; Final Results of Countervailing Duty Administrative Review, 60 FR 17516, 17518 (April 6, 1995) (Department's Position at Comment 7). To the extent that a company was in a tax-paying position before and after we removed the Section 35(3) deductions from its tax calculation for 2002, we calculated the benefit by multiplying the Thai tax rate by the difference between the taxable income calculated by the company and the taxable income calculated after removing the Section 35(3) deductions. To the extent that a company in a tax loss position had taxable income after we removed the Section 35(3) deductions from the 2002 tax calculation, we calculated the benefit by multiplying the Thai tax rate by the taxable income resulting from our calculation.

To the extent that a company carried losses forward from prior years to offset taxable income in 2002, we removed prior year Section 35(3) deductions from the prior years' losses. If this removal resulted in taxable income in 2002, we then calculated the benefit by multiplying the Thai tax rate by that income. If the result was a tax loss, then the company received no benefit from this program during the POI. To determine the countervailable subsidy rate, we then divided each company's benefit by the appropriate total sales of subject merchandise or exports of subject merchandise (see “Subsidies Valuation” section above). Thus, we preliminarily determine the countervailable subsidy to be 0.26 percent ad valorem for Bangkok Polyester, 0.31 percent ad valorem for Indopet, and zero for Thai Shinkong.

Program Preliminarily Determined To Be Not Countervailable

Duty Exemptions on Imports of Raw and Essential Materials Under IPA Section 36

In our initiation checklist, we indicated that we were initiating on Section 30 of the IPA, which provides duty exemptions on imports of raw material. The RTG reported that none of the Thai BG PET Resin producers/exporters received benefits under Section 30 of the IPA, but all three had received the same type of benefits under Section 36 of the IPA. We subsequently determined it was appropriate to investigate Section 36 of the IPA. See Memorandum from Dana Mermelstein to Barbara Tillman, Countervailing Duty Investigation of Bottle-Grade Polyethylene Terephthalate (PET) Resin from Thailand: Initiation of Investigation of Section 36 of the Investment Promotion Act, dated July 8, 2004, and on file in the Central Records Unit.

Section 36 provides companies with export-specific import duty and tax exemptions. Section 36(1) allows companies to import raw and essential materials that are incorporated into goods for export with exemptions on import duties. Thai Shinkong, Bangkok Polyester, and Indopet received duty exemptions on imports of raw and essential materials under Section 36(1). Thai Shinkong, Bangkok Polyester, and Indopet each reported that they received exemptions under Section 36(1) on their imports of goods that were consumed in the production of merchandise for export. The RTG reported that Section 36(1) essentially operates as a duty drawback scheme and, as such, is not countervailable, as the exemptions on imported raw and essential materials can only be received for imported goods consumed in the production of exports. The RTG and the respondent companies have provided information about the system in place to monitor and track the consumption and/or re-export of goods imported under section 36(1), making normal allowances for waste. Based on the information on the record to date, we preliminarily determine that this program is not countervailable within the meaning of 19 CFR 351.519(a)(4). However, we have a number of concerns about how the RTG confirms that the imported inputs are consumed in production of exports, and that the waste allowances are reasonable. Therefore, we will continue to gather data and analyze the information in the record, and we will verify the manner in which the RTG administers this duty drawback program and the system it uses to monitor and track the consumption and/or re-export of goods imported, making normal allowance for waste.

Programs Preliminarily Determined To Be Not Used

We preliminarily determine that the producers/exporters of BG PET Resin did not apply for or receive benefits, during the POI, under the programs listed below.

A. Import Duty Exemptions on Raw and Essential Materials Under IPA Section 30

B. Corporate Income Tax Exemptions Under IPA Section 31

For purposes of this preliminary determination, we have relied on the RTG and respondent companies' responses to preliminarily determine non-use of the programs listed above. During the course of verification, the Department will examine whether these programs were not used by respondent companies during the POI.

Verification

In accordance with section 782(i) of the Act, we will verify the information submitted prior to making our final determination.

Preliminary Determination

In accordance with section 703(d)(1)(A)(i) of the Act, we have determined individual rates for Thai Shinkong, Bangkok Polyester, and Indopet. Section 705(c)(5)(A)(i) provides that the all others rate will generally be an amount equal to the weighted average countervailable subsidy rates established for exporters or producers individually investigated, excluding any zero or de minimis countervailable subsidy rates and any rates determined entirely on the basis of the facts available. In this case, however, the countervailable subsidy rates for all of the individually investigated exporters or producers are de minimis. Section 705(c)(5)(A)(ii) provides that, when this is the case, the administering authority may use any reasonable method to establish the all others rate, including averaging the weighted average countervailable subsidy rates determined for the exporters and producers individually examined. Thus, to calculate the all-others rate, we weight-averaged the individual rates of Thai Shinkong, Bangkok Polyester, and Indopet based on each company's respective exports of subject merchandise to the United States during the POI. These rates are summarized in the table below:

Producer/Exporter | Net Subsidy Rate
Thai Shinkong Industry Corporation Ltd | 00.09 % ad valorem
Bangkok Polyester Public Company Limited | 00.57 % ad valorem
Indopet (Thailand) Limited | 00.37 % ad valorem
All Others Rate | 00.26 % ad valorem

These countervailable subsidy rates are de minimis in accordance with section 703(b)(4)(B) of the Act and 19 CFR 351.106(b). Therefore, we preliminarily determine that countervailable subsidies are not being provided to producers or exporters of BG PET Resin from Thailand. Thus, we will not direct U.S. Customs and Border Protection to suspend liquidation of entries of the subject merchandise from Thailand.

ITC Notification

In accordance with section 703(f) of the Act, we will notify the ITC of our determination. In addition, we are making available to the ITC all non-privileged and non-proprietary information relating to this investigation. We will allow the ITC access to all privileged and business proprietary information in our files, provided the ITC confirms that it will not disclose such information, either publicly or under an administrative protective order, without the written consent of the Assistant Secretary for Import Administration.

In accordance with section 705(b)(3) of the Act, if our final determination is negative, the ITC will make its final determination within 75 days after the Department makes its final determination.

Notification of Parties

In accordance with 19 CFR 351.224(b), the Department will disclose to the parties the calculations for this preliminary determination within five days of its announcement. Unless otherwise notified by the Department, interested parties may submit case briefs within 50 days of the date of publication of the preliminary determination in accordance with 19 CFR 351.309(c)(i). As part of the case brief, parties are encouraged to provide a summary of the arguments not to exceed five pages and a table of statutes, regulations, and cases cited. Rebuttal briefs, which must be limited to issues raised in the case briefs, must be filed within five days after the case brief is filed.

In accordance with 19 CFR 351.310, we will hold a public hearing, if requested, to afford interested parties an opportunity to comment on this preliminary determination. Individuals who wish to request a hearing must submit a written request within 30 days of the publication of this notice in the Federal Register to the Assistant Secretary for Import Administration, U.S. Department of Commerce, Room 1870, 14th Street and Constitution Avenue, NW, Washington, DC 20230. Parties will be notified of the schedule for the hearing and parties should confirm by telephone the time, date, and place of the hearing 48 hours before the scheduled time. Requests for a public hearing should contain: (1) party's name, address, and telephone number; (2) the number of participants; and (3) to the extent practicable, an identification of the arguments to be raised at the hearing.

This determination is issued and published pursuant to sections 703(f) and 777(i) of the Act.

Dated: August 23, 2004.
James J. Jochum,
Assistant Secretary for Import Administration.

[FR Doc. E4-1976 Filed 8-27-04; 8:45 am]

BILLING CODE 3510-22-S